DEPARTMENT OF THE INTERIOR

Office of the Secretary

[XXXD5198NI DS61100000 DNINR0000.000000 DX61104; BAC 4334-12]

Exxon Valdez Oil Spill Public Advisory Committee

AGENCY: Office of the Secretary, Interior.

ACTION: Meeting Notice.

SUMMARY: The Department of the Interior, Office of the Secretary is announcing a public meeting of the Exxon Valdez Oil Spill Public Advisory Committee.

DATES: October 16, 2014, at 9:30 a.m.

ADDRESSES: First floor conference room, Glenn Olds Hall, 4210 University Drive, Anchorage, Alaska.

FOR FURTHER INFORMATION CONTACT: Dr. Philip Johnson, Department of the Interior, Office of Environmental Policy and Compliance, 1689 “C” Street, Suite 119, Anchorage, Alaska, (907) 271-5011.

SUPPLEMENTARY INFORMATION: The Exxon Valdez Oil Spill Public Advisory Committee was created by Paragraph V.A.4 of the Memorandum of Agreement and Consent Decree entered into by the United States of America and the State of Alaska on August 27, 1991, and approved by the United States District Court for the District of Alaska in settlement of United States of America v. State of Alaska, Civil Action No. A91-081 CV.

The agenda will include a discussion about the Annual Work Plan and an opportunity for public comments. The final agenda and materials for the meeting will be posted on the Exxon Valdez Oil Spill Trustee Council Web site at www.evostc.state.ak.us. All Exxon Valdez Oil Spill Public Advisory Committee meetings are open to the public.

Willie R. Taylor,
Director, Office of Environmental Policy and Compliance.

[FR Doc. 2014-22844 Filed 9-24-14; 8:45 am]

BILLING CODE 4310-RG-P